DEPARTMENT OF ENERGY

Federal Energy Regulatory Commission

[Docket No. IC13-21-000]

Commission Information Collection Activities (FERC-574); Comment Request; Extension

AGENCY: Federal Energy Regulatory Commission, DOE.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-574 (Gas Pipeline Certificates: Hinshaw Exemption).

DATES: Comments on the collection of information are due October 15, 2013.

ADDRESSES: You may submit comments (identified by Docket No. IC13-21-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, telephone at (202) 502-8663, and fax at (202) 273-0873.

SUPPLEMENTARY INFORMATION: Title: Gas Pipeline Certificates: Hinshaw Exemption.

OMB Control No.: 1902-0116.

Type of Request: Three-year extension of the FERC-574 information collection requirements with no changes to the current reporting requirements.

Abstract: The Commission uses the information collected under the requirements of FERC-574 to implement the statutory provisions of Sections 1(c), 4 and 7 of the Natural Gas Act (NGA).¹ Natural gas pipeline companies file applications with the Commission furnishing information in order to facilitate a determination of an applicant's qualification for an exemption under the provisions of the Section 1(c). If the Commission grants exemption, the natural gas pipeline company is not required to file certificate applications, rate schedules, or any other applications or forms prescribed by the Commission.

¹ 15 U.S.C. 717-717w.

The exemption applies to companies engaged in the transportation, sale, or resale of natural gas in interstate commerce if: (a) They receive gas at or within the boundaries of the state from another person at or within the boundaries of that state; (b) such gas is ultimately consumed in such state; (c) the rates, service and facilities of such company are subject to regulation by a State Commission; and (d) that such State Commission is exercising that jurisdiction. 18 CFR Part 152 specifies the data required to be filed by pipeline companies for an exemption.

Type of Respondents: Pipeline Companies

Estimate of Annual Burden: ² The Commission estimates the total Public Reporting Burden for this information collection as:

² The Commission defines burden as the total time, effort, or financial resources expended by persons to generate, maintain, retain, or disclose or provide information to or for a Federal agency. For further explanation of what is included in the information collection burden, reference 5 Code of Federal Regulations 1320.3.

FERC-574: Gas Pipeline Certificates: Hinshaw Exemption
Number of respondents | Number of responses per respondent | Total number of responses | Average burden hours per response | Estimated total annual burden
(A) | (B) | (A) × (B) = (C) | (D) | (C) × (D)
1 | 1 | 1 | 60 | 60

The total estimated annual cost burden to respondents is $4,200 [60 hours * $70/hour ³ = $4,200].

³ FY2013 Estimated Average Hourly Cost per FTE, including salary + benefits.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 7, 2013.
Kimberly D. Bose,
Secretary.

[FR Doc. 2013-19660 Filed 8-13-13; 8:45 am]

BILLING CODE 6717-01-P